COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List products and services to be furnished by nonprofit agencies employing persons who are blind or have other severe disabilities.

Comments Must be Received on or Before: July 15, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the possible impact of the proposed actions.

The U.S. Department of Agriculture's requirements for Bakery Mix are currently on the Procurement List with Advocacy and Resources Corp. (ARC), Cookeville, Tennessee as the producing nonprofit agency. The Committee is proposing to extend the scope of that mandate to include the Defense Supply Center—Philadelphia and to add three additional nonprofit agencies as producers.

If the Committee approves the proposed additions, the entities of the Federal Government identified in the notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Bakery Mix

8920-00-NSH-0001

NPA: Advocacy and Resources Corp. (ARC), Cookeville, Tennessee.

CW Resources, Inc. New Britain, Connecticut,

Knox County Association for Retarded Citizens, Inc., Vincennes, Indiana.

Transylvania Vocational Services, Inc., Brevard, North Carolina

Contract Activity: Defense Supply Center—Philadelphia, Philadelphia, Pennsylvania

This above product is currently on the Procurement List for U.S. Department of Agriculture.

This proposal is to extend the scope of the mandate to include Defense Supply Center—Philadelphia, Pennsylvania and to add three additional producing nonprofit agencies.

Product/NSN: Marker, Permanent Ink (Colossal)

7520-01-424-4849 (Black)

7520-01-424-4855 (Red)

7520-01-424-4870 (Green)

7520-01-424-4880 (Blue)

NPA: Dallas Lighthouse for the Blind, Inc., Dallas, Texas

Contract Activity: Office Supplies & Paper Products Commodity Center, New York, NY

Product/NSN: PRC Deck Recoating System

8010-00-NIB-0012

NPA: Alphapointe Association for the Blind, Kansas City, Missouri

Contract Activity: Fleet Industrial Supply Center, Bremerton, Washington

Services

Service Type/Location: Embroidery of USAF Service Name Tapes & Emboss of Plastic Name Tags, Lackland Air Force Base, Texas

NPA: Delaware Division for the Visually Impaired, New Castle, Delaware, Lions Industries for the Blind, Inc., Kinston, North Carolina

Contract Activity: Department of the Air Force

Service Type/Location: Installation Support Services, Fort Hunter Liggett, California

NPA: PRIDE Industries, Roseville, California

Contract Activity: Headquarters Fort McCoy, Fort McCoy, Wisconsin

Service Type/Location: Janitorial/Custodial, Hubert H. Humphrey Building, Washington, DC

NPA: Melwood Horticultural Training Center, Upper Marlboro, Maryland

Contract Activity: Department of Health & Human Services

Service Type/Location: Laundry Service, Fort Carson, Colorado

NPA: Goodwill Industries of Colorado Springs, Colorado Springs, Colorado

Contract Activity: Department of the Air Force

Sheryl D. Kennerly,
Director, Information Management.

[FR Doc. 02-15069 Filed 6-13-02; 8:45 am]

BILLING CODE 6353-01-P